DEPARTMENT OF AGRICULTURE

Rural Business-Cooperative Service

Notice of Funding Availability (NOFA) Inviting Applications for the Rural Microentrepreneur Assistance Program

AGENCY: Rural Business-Cooperative Service, USDA.

ACTION: Notice to extend application deadlines and award dates.

SUMMARY: The Agency published a document in the Federal Register of June 3, 2010, at 75 FR 31413 to announce the acceptance of applications under the Rural Microentrepreneur Assistance Program (RMAP) to provide direct loans, technical assistance grants, and technical assistance-only grants to microdevelopment organizations to support the development and ongoing success of rural microentrepreneurs and microenterprises. This notice extends the application deadline and anticipated award date for applications submitted for Fiscal Year 2010.

FOR FURTHER INFORMATION CONTACT: Requests for additional information should be directed to Mark Brodziski, (202) 720-1394.

SUPPLEMENTARY INFORMATION: On July 19, 2010, the Agency published a correction notice (75 FR 41695) to the Interim Rule for the Rural Microentrepreneur Assistance Program (7 CFR part 4280, subpart D). One of the items corrected was the definition of a “nonprofit entity.” This correction removed the word “private” from the definition of “nonprofit entity”. The original definition of “nonprofit entity” published in the Interim Rule, referred to “a private entity chartered as a nonprofit entity under State law.” The corrected definition is “an entity chartered as a nonprofit entity under State law.” It was not the intention of the Agency to restrict eligible nonprofit entities to only private entities. In making this correction to the Interim Rule, there may be additional entities eligible to participate in RMAP in Fiscal Year 2010. Because the correction occurred after the Fiscal Year 2010 application deadline of July 16, 2010, as found in the June 3, 2010, notice, the Agency is extending the application deadline for Fiscal Year 2010 applications from July 16, 2010 to August 16, 2010.

In addition, because the Fiscal Year 2010 application deadline is being extended, it is necessary to provide additional time for the Agency to review applications received between July 16, 2010 and August 16, 2010. Therefore, the Agency is extending the anticipated award date for Fiscal Year 2010 applications from August 31, 2010 to September 15, 2010.

All other aspects of the June 3, 2010 notice for RMAP remain unchanged and in effect for applications submitted by the new application deadline for Fiscal Year 2010.

Dated: July 22, 2010.
Judith A. Canales,
Administrator, Rural Business-Cooperative Service.

[FR Doc. 2010-18639 Filed 7-28-10; 8:45 am]

BILLING CODE 3410-XY-P